POSTAL RATE COMMISSION

Facility Tour

AGENCY: Postal Rate Commission.

ACTION: Notice of Commission tour.

SUMMARY: Postal Rate Commissioners and advisory staff members will tour Bank of America Corporation mailing operations facilities in New Castle, Delaware on March 22, 2006.

DATES: March 22, 2006.

FOR FURTHER INFORMATION CONTACT: Stephen L. Sharfman, general counsel, Postal Rate Commission, 202-789-6820.

Steven W. Williams,
Secretary.

[FR Doc. 06-2619 Filed 3-16-06; 8:45 am]

BILLING CODE 7710-FW-M